DEPARTMENT OF COMMERCE

International Trade Administration

[A-570-832]

Pure Magnesium from the People's Republic of China: Extension of Time for the Preliminary Results of the Antidumping Duty Administrative Review

AGENCY: Import Administration, International Trade Administration, Department of Commerce.

EFFECTIVE DATE: February 6, 2008.

FOR FURTHER INFORMATION CONTACT: Hua Lu, AD/CVD Operations, Office 8, Import Administration, International Trade Administration, U.S. Department of Commerce, 14th Street and Constitution Avenue, NW, Washington, DC 20230; telephone: (202) 482-6478.

SUPPLEMENTARY INFORMATION:

Background

On May 1, 2007, the Department of Commerce (“the Department”) published in the Federal Register a notice for an opportunity to request an administrative review of the antidumping duty order on pure magnesium from the People's Republic of China (“PRC”). See Antidumping or Countervailing Duty Order, Finding, or Suspended Investigation; Opportunity to Request Administrative Review, 72 FR 23796 (May 1, 2007). As a result of a request for a review and a one year deferral filed by Tianjin Magnesium International Co., Ltd. (“TMI”) on May 30, 2007, and a request for a review filed by Shanxi Datuhe Coke & Chemicals Co., Ltd. (“Datuhe”) on May 31, 2007, the Department published in the Federal Register a notice of initiation of an administrative review (i.e., Datuhe) and deferral of initiation of administration review with respect to TMI for the period May 1, 2006, through April 30, 2007. See Initiation of Antidumping and Countervailing Duty Administrative Reviews, Request for Revocation in Part and Deferral of Administrative Review, 72 FR 35690 (June 29, 2007). Upon learning that the domestic interested party did not receive notice of TMI's request for a deferral, we extended the time period for the domestic interested party to object. The domestic interested party did object. Consequently, pursuant to 19 CFR 351.213 (c), we determined not to defer the review for TMI. See memorandum to the file from Hua Lu, Case Analyst, through Robert Bolling, Granting Petitioner An Extension of Time to File An Objection to Respondent's Deferral Request, dated September 26, 2007. The preliminary results of review are currently due no later than January 31, 2008.

Extension of Time Limit of Preliminary Results.

Section 751(a)(3)(A) of the Tariff Act of 1930, as amended (“Act”), requires the Department to issue preliminary results within 245 days after the last day of the anniversary month of an order for which a review is requested and the final results within 120 days after the date on which the preliminary results are published. However, if it is not practicable to complete the review within this time period, section 751(a)(3)(A) of the Act allows the Department to extend the 245-day time period to a maximum of 365 days. We determine that completion of the preliminary results of this review within the 245-day period is not practicable because the Department requires additional time to analyze information pertaining to the respondents' sales practices, factors of production, and to issue and review responses to supplemental questionnaires.

Because it is not practicable to complete this review within the time specified under the Act, we are extending the time period for issuing the preliminary results of review by 90 days until April 30, 2008, in accordance with section 751(a)(3)(A) of the Act. The final results continue to be due 120 days after the publication of the preliminary results.

This notice is published pursuant to sections 751(a)(3)(A) of the Act and 19 CFR 351.213(h)(2).

Dated: January 31, 2008.
Stephen J. Claeys,
Deputy Assistant Secretary for Import Administration.

[FR Doc. E8-2178 Filed 2-5-08; 8:45 am]

BILLING CODE 3510-DS-S